DEPARTMENT OF HOMELAND SECURITY

8 CFR Parts 208 and 235

[CIS No. 2692-21; DHS Docket No. USCIS-2021-0012]

RIN 1615-AC67

DEPARTMENT OF JUSTICE

Executive Office for Immigration Review

8 CFR Parts 1003, 1208, and 1235

[A.G. Order No. 5116-2021]

RIN 1125-AB20

Procedures for Credible Fear Screening and Consideration of Asylum, Withholding of Removal, and CAT Protection Claims by Asylum Officers

Correction

In proposed rule document 2021-17779, appearing on pages 46906 through 46950 in the issue of Friday, August 20, 2021, make the following correction:

On page 46906, in the second column, in the DATES section, on the third and fourth lines, “on or October 19, 2021” should read, “on or before October 19, 2021”.

[FR Doc. C1-2021-17779 Filed 10-15-21; 8:45 am]

BILLING CODE 0099-10-D